OFFICE OF THE UNITED STATES TRADE REPRESENTATIVE

Generalized System of Preferences (GSP): Addendum Notice Regarding Competitive Need Limitations in the 2004 Annual Review

AGENCY: Office of the United States Trade Representative.

ACTION: Notice.

SUMMARY: The Office of the United States Trade Representative (USTR) released a notice on February 25, 2005, to announce the product petitions that were accepted for further review in the 2004 GSP Annual Review, and set forth the schedule for comment and public hearing on these petitions, for requesting participation in the hearing, and for submitting pre-hearing and post-hearing briefs. This addendum is to inform the public of the addition of several self-initiated competitive need limitation (CNL) waiver requests and sets forth a schedule for public participation.

FOR FURTHER INFORMATION CONTACT: Contact the GSP Subcommittee of the Trade Policy Staff Committee, Office of the United States Trade Representative, 1724 F Street, NW., Room F-220, Washington, DC 20508. The telephone number is (202) 395-6971.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

Section 503(c)(2)(A) of the 1974 Act states that the President must terminate GSP duty-free treatment for an article from a beneficiary developing country by July 1 of the next calendar year if the import value of that article exceeds a set amount ($115 million in 2004) or exceeds 50 percent of total U.S. imports of the article from all countries. The President has the authority to grant CNL waivers, as set forth in section 503(d) of the 1974 Act (19 U.S.C. 2463(d)).

Modifications to the list of articles eligible for duty-free treatment under the GSP and CNL waivers resulting from the 2004 Annual Review will be announced on or about June 30, 2005, in the Federal Register, and any changes will take effect on the effective date announced.

Opportunities for Public Comment and Inspection of Comments

The GSP Subcommittee of the TPSC invites comments in support of or in opposition to any proposed CNL waiver which is included in this addition to the Annual Review (Annex II). Submissions should comply with 15 CFR part 2007, except as modified below. All submissions should identify the proposed CNL waiver(s) in terms of the HTS subheading number and country of origin as shown in Annex II. The GSP regulations (15 CFR part 2007) provide the schedule of dates for conducting an annual review unless otherwise specified in a Federal Register notice. This notice specifies the schedule for public comment and hearings on the proposed CNL waivers, set out in Annex I.

Requirements for Submissions

In order to facilitate prompt processing of submissions, USTR strongly urges and prefers electronic e-mail submissions in response to this notice. Hand-delivered submissions will not be accepted. These submissions should be single copy transmissions in English with the total submission not to exceed 50 single-spaced standard letter-size pages. E-mail submissions should use the following subject line: “Comments on 2004 CNL Review” followed by the HTS subheading number and the country of origin found in the Annex II and, as appropriate “Written Comments”, “Notice of Intent to Testify”, “Pre-hearing brief”, “Post-hearing brief” or “Comments on USITC Advice”. Documents must be submitted in English in one of the following formats: WordPerfect (.WPD), MSWord (.DOC) , or text (.TXT) files. Documents may not be submitted as electronic image files or contain imbedded images (for example, “.JPG”, “.TIF”, “.PDF”, “.BMP”, or “.GIF”). E-mail submissions containing such files will not be accepted. Supporting documentation submitted as spreadsheets are acceptable as Quattro Pro or Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including the sender's e-mail address and other identifying information. The e-mail address for these submissions is FR0441@USTR.GOV. Documents not submitted in accordance with these instructions might not be considered in this review. If unable to provide submissions by e-mail, please contact the GSP Subcommittee to arrange for an alternative method of transmission.

Public versions of all documents relating to this review will be available for review shortly after the due date, by appointment in the USTR public reading room, 1724 F Street, NW., Washington, DC. Appointments may be made from 9:30 a.m. to noon and 1 p.m. to 4 p.m., Monday through Friday, by calling (202) 395-6186.

Notice of Public Hearings

Hearings will be held by the GSP Subcommittee of the TPSC on May 2, 2005, beginning at 10 a.m. at the White House Conference Center, Truman Room, 726 Jackson Place, NW., Washington, DC. The hearings will be open to the public and a transcript of the hearings will be made available for public inspection or can be purchased from the reporting company. No electronic media coverage will be allowed.

All interested parties wishing to make an oral presentation at the hearings must submit, following the above “Requirements for Submissions”, the name, address, telephone number, and facsimile number and e-mail address, if available, of the witness(es) representing their organization to the Chairman of the GSP Subcommittee by 5 p.m., April 28, 2005. Requests to present oral testimony in connection with the public hearings must be accompanied by a written brief or statement, in English, and also must be received by 5 p.m., April 28, 2005. Oral testimony before the GSP Subcommittee will be limited to five-minute presentations that summarize or supplement information contained in briefs or statements submitted for the record. Post-hearing briefs or statements will be accepted if they conform with the regulations cited above and are submitted, in English, by 5 p.m., May 27, 2005. Parties not wishing to appear at the public hearings may submit post-hearing written briefs or statements, in English, by 5 p.m., May 27, 2005.

In accordance with sections 503(a)(1)(A) and 503(e) of the 1974 Act and the authority delegated by the President, pursuant to section 332(g) of the Tariff Act of 1930, the U.S. Trade Representative has requested that the USITC provide its advice on the probable economic effect of the proposed CNL waivers. Comments by interested persons on the USITC Report prepared as part of the product review should be submitted by 5 p.m., 5 days after the date of USITC publication of its report.

Jon Rosenbaum,
Acting Executive Director for GSP, GSP Subcommittee of the Trade Policy Staff Committee.

BILLING CODE 3190-W5-P

[FR Doc. 05-6935 Filed 4-5-05; 8:45 am]

BILLING CODE 3190-W5-C